DEPARTMENT OF THE INTERIOR

Bureau of Indian Affairs

Information Collection Submitted to the Office of Management and Budget for Review Under the Paperwork Reduction Act

AGENCY: Bureau of Indian Affairs, Interior.

ACTION: Notice.

SUMMARY: This notice announces that the Bureau of Indian Affairs (BIA) has submitted the proposed renewal of the information collection request for the Housing Assistance Application, to the Office of Management and Budget (OMB) for approval under the Paperwork Reduction Act.

DATES: Comments must be submitted on or before November 3, 2004.

ADDRESSES: Your comments and suggestions on the requirements should be made directly to the attention: Desk Officer for the Department of the Interior, Office of Information and Regulatory Affairs, Office of Management and Budget, either by facsimile at 202-395-6566, or by e-mail to OIRA_DOCKET@omb.eop.gov. Please provide a copy to Frank Joseph, Bureau of Indian Affairs, Department of the Interior, 1951 Constitution Avenue NW., Washington, DC 20240. Telephone: (202) 513-7620.

FOR FURTHER INFORMATION CONTACT: Copies of the collection of information form may be obtained by contacting Frank Joseph, Bureau of Indian Affairs, Department of the Interior, 1951 Constitution Avenue, NW., MS-335B-SIB, Washington, DC 20240. Telephone: (202) 513-7620.

SUPPLEMENTARY INFORMATION:

I. Abstract

This information collection has been re-evaluated and our estimates of the burden have been revised based on field experience. We have added the time the tribes spend in reviewing applications, the cost of soliciting applications and the cost of house inspection for each possible recipient. This additional cost is incurred regardless of whether or not the applicant is awarded a home improvement grant. These changes are an adjustment to the burden because the added burden was there before.

The information is needed to establish an applicant's eligibility to receive services under the Housing Improvement Program and to establish the priority order in which eligible applicants may receive services under the program. An agency may not conduct or sponsor, and a person is not required to respond to a collection of information unless it displays a currently valid OMB control number.

II. Request for Comments

We specifically request your comments be submitted to OMB at the address provided above with a copy to the Bureau of Indian Affairs within 30 days concerning the following:

1. Whether the collection of information is necessary for the proper performance of the functions of the BIA, including whether the information will have practical utility;

2. The accuracy of the BIA's estimate of the burden to collect the information, including the validity of the methodology and assumptions used;

3. The quality, utility and clarity of the information to be collected;

4. How to minimize the burden of the information collection on those who are to respond, including the use of appropriate automated electronic, mechanical or other forms of information technology.

5. OMB is required to respond to this request within 60 days after publication of this notice in the Federal Register, but may respond after 30 days; therefore, your comments should be submitted to OMB within 30 days of publication to assure maximum consideration.

III. Data

Title of the Collection of Information: Department of the Interior, Bureau of Indian Affairs, Housing Assistance Application.

OMB Number: 1076-0084

Affected Entities: Individual members of Federally recognized Indian tribes who are living within a designated tribal or legally defined service area.

Frequency of Response: At least annually

Estimated Number of Annual Responses: 3500

Estimated Time per Application: 30 minutes by applicant and 30 minutes by tribe for 1 hour.

Estimated Total Annual Burden Hours: 3,500 hours.

Dated: August 4, 2004.
David W. Anderson,
Assistant Secretary—Indian Affairs.

[FR Doc. 04-22229 Filed 10-1-04; 8:45 am]

BILLING CODE 4310-4J-P